DEPARTMENT OF ENERGY

Federal Energy Regulatory Commission

Notice of Amendment of License and Soliciting Comments, Motions To Intervene, and Protests

March 12, 2001.

Take notice that the following hydroelectric application has been filed with the Commission and is available for public inspection:

a. Application Type: Amendment of License.

b. Project No.: 2310-113.

c. Date Filed: February 6, 2001.

d. Applicant: Pacific Gas & Electric.

e. Name of Project: Drum-Spaulding Hydroelectric Project.

f. Location: Rock Creek Dam and Reservoir, developments of the Drum-Spaulding Project, are located in Placer County, California near the intersection of Bell Road and Highway 49, about 4 miles north of Auburn. Portions of the Drum-Spaulding Project occupy federal lands managed by the U.S. Forest Service (Tahoe National forest) and the Bureau of Land Management.

g. Filed Pursuant to: Federal Power Act, 16 U.S.C. 791(a)-825(r).

h. Applicant Contact: Richard Doble, Senior License Coordinator, Hydro Generation, Pacific Gas & Electric, 245 Market Street, P.O. Box 770000, San Francisco, CA 94177-0001, (415) 973-4480.

i. FERC Contact: Questions about this notice can be answered by Timothy Welch at (202) 219-2666 or e-mail address: timothy, welch@ferc.fed.us. The Commission cannot accept comments, recommendations, motions to intervene or protests sent by e-mail; these documents must be filed as described below.

j. Deadline for Filing Comments, Terms and Conditions, Motions to Intervene, and Protests: 30 days from the issuance date of this notice.

All documents (original and eight copies) should be filed with: David P. Boergers, Secretary, Federal Energy Regulatory Commission, 888 First Street, NE., Washington, DC 20426. Comments, recommendations, terms and conditions, protests and interventions, may be filed electronically via the internet in lieu of paper. See 18 CFR 385.2001(a)(1)(iii) and the instruction on the Commission's web site at http://www/ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Pacific Gas & Electric (licensee) has applied for license amendment to the license for the Drum-Spaulding Hydroelectric Project. To improve the safety of Rock Creek Dam, the licensee proposes to improve spillway capacity to eliminate potential overtopping of the dam under the Probable Maximum Flood (PMF) design flood. This will be accomplished by lowering the crest of the spillway 2.5 feet. The activity would involve saw cutting and removing the top portion of the existing concrete spill crest. A new reinforced concrete slab with an ogee shaped crest, similar to the existing spill crest configuration, would be installed. The modified spillway would have an increased spill capacity of 2,220 cubic feet per second and would lower the normal maximum reservoir level by 2.5 feet. As a result, the area and volume of the reservoir would be reduced from the current 55 acres and 548 acre-feet, to 50 acres and 425 acre-feet, respectively.

l. A copy of the application is available for inspection and reproduction at the Commission's Public Reference Room at 888 First Street NE, Room 2A, Washington, DC 20426, or by calling (202) 208-1371. The application may be viewed on the web at http://www.ferc.fed.us/online/rims.htm. Call (202) 208-2222 for assistance. A copy is also available for inspection and reproduction at the address in item (h) above.

m. Individuals desiring to be included on the Commission's mailing list should so indicate by writing to the Secretary of the Commission.

Anyone may submit comments, a protest, or a motion to intervene in accordance with the requirements of the Rules of Practice and Procedure, 18 CFR 385.210, 211, 214. In determining the appropriate action to take, the Commission will consider all protests or other comments filed, but only those who file a motion to intervene in accordance with the Commission's Rules may become a party to the proceeding. Any comments, protests, or motions to intervene must be received on or before the specified comments date for the particular application.

Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 01-6524 Filed 3-15-01; 8:45 am]

BILLING CODE 6717-01-M